DEPARTMENT OF COMMERCE

Foreign-Trade Zones Board

[S-148-2025]

Approval of Subzone Status; Radix Group Int'l dba DHL Global Forwarding; Fort Worth, Texas

On June 3, 2025, the Executive Secretary of the Foreign-Trade Zones (FTZ) Board docketed an application submitted by the Alliance Corridor, Inc., grantee of FTZ 196, requesting subzone status subject to the existing activation limit of FTZ 196, on behalf of Radix Group Int'l dba DHL Global Forwarding, in Fort Worth, Texas.

The application was processed in accordance with the FTZ Act and Regulations, including notice in the Federal Register inviting public comment (90 FR 24093, June 6, 2025). The FTZ staff examiner reviewed the application and determined that it meets the criteria for approval. Pursuant to the authority delegated to the FTZ Board Executive Secretary (15 CFR 400.36(f)), the application to establish Subzone 196C was approved on August 19, 2025, subject to the FTZ Act and the Board's regulations, including section 400.13, and further subject to FTZ 196's 2,000-acre activation limit.

Dated: August 19, 2025.
Elizabeth Whiteman,
Executive Secretary.

[FR Doc. 2025-16100 Filed 8-21-25; 8:45 am]

BILLING CODE 3510-DS-P